DEPARTMENT OF JUSTICE

Drug Enforcement Administration

Manufacturer of Controlled Substances; Notice of Application

Pursuant to § 1301.33(a) of Title 21 of the Code of Federal Regulations (CFR), this is notice that on May 8, 2006, Aldrich Chemical Company Inc., DBA Isotec, 3858 Benner Road, Miamisburg, OH 45342-4304, made application by renewal, to the Drug Enforcement Administration (DEA) to be registered as a bulk manufacturer of the basic classes of controlled substances listed in Schedule I and II:

Drug | Schedule
Cathinone (1235) | I
Methcathinone (1237) | I
N-Ethylamphetamine (1475) | I
N,N-Dimethylamphetamine (1480) | I
Aminorex (1585) | I
Gamma hydroxybutyric acid (2010) | I
Methaqualone (2565) | I
Ibogaine (7260) | I
Lysergic acid dethylamide (7315) | I
Tetrahydrocannabinols (7370) | I
Mescaline (7381) | I
2,5-Dimethoxyamphetamine (7396) | I
3,4-Methylenedioxyamphetamine (7400) | I
3,4-Methylenedioxy-N-ethylamphetamine (7404) | I
3,4-Methylenedioxy-methamphetamine (7405) | I
4-Methoxyamphetamine (7411) | I
Psilocybin (7437) | I
Psilocyn (7438) | I
N-Ethyl-1-phenylcyclohexylamine (7455) | I
Dihydromorphine (9145) | I
Normorphine (9313) | I
Acetylmethadol (9601) | I
Alphacetylmethadol Except Levo-Alphacetylmethadol (9603) | I
Normethadone (9635) | I
Norpipanone (9636) | I
3-Methylfentanyl (9813) | I
Amphetamine (1100) | II
Methamphetamine (1105) | II
Methylphenidate (1724) |
Amobarbital (2125) | II
Pentobarbital (2270) | II
Secobarbital (2315) | II
1-Phenylcyclohexylamine (7460) | II
Phencyclidine (7471) | II
Phenylacetone (8501) | II
1-Piperidinocyclohexanecarbonitrile (8603) | II
Cocaine (9041) | II
Codeine (9050) | II
Dihydrocodeine (9120) | II
Oxycodone (9143) | II
Hydromorphone (9150) | II
Benzoylecgonine (9180) | II
Ethylmorphine (9190) | II
Hydrocodone (9193) | II
Isomethadone (9226) | II
Meperidine (9230) | II
Meperidine intermediate-A (9232) | II
Merperidine intermediate-B (9233) | II
Methadone (9250) | II
Methadone intermediate (9254) | II
Dextropropoxyphene, bulk, (non-dosage forms) (9273) | II
Morphine (9300) | II
Normorphine (9313) | II
Thebaine (9333) | II
Levo-alphacetylmethadol (9648) | II
Oxymorphone (9652) | II
Fentanyl (9801) | II

The company plans to manufacture small quantities of the listed controlled substances to produce isotope labeled standards for drug testing and analysis.

Any other such applicant and any person who is presently registered with DEA to manufacture such a substance may file comments or objections to the issuance of the proposed registration pursuant to 21 CFR 1301.33(a).

Any such written comments or objections being sent via regular mail should be addressed, in quintuplicate, to the Deputy Assistant Administrator, Office of Diversion Control, Drug Enforcement Administration, Washington, DC 20537, Attention: DEA Federal Register Representative/ODL; or any being sent via express mail should be sent to DEA Headquarters, Attention: DEA Federal Register Representative/ODL, 2401 Jefferson-Davis Highway, Alexandria, VA 22301; and must be filed no later than October 23, 2006.

Dated: August 15, 2006.
Joseph T. Rannazzisi,
Deputy Assistant Administrator, Office of Diversion Control, Drug Enforcement Administration.

[FR Doc. E6-13849 Filed 8-21-06; 8:45 am]

BILLING CODE 4410-09-P